DEPARTMENT OF LABOR

Employment and Training Administration

Workforce Investment Act; Native American Employment and Training Council

AGENCY: Employment and Training Administration, U.S. Department of Labor.

ACTION: Notice of meeting.

SUMMARY: Pursuant to Section 10(a)(2) of the Federal Advisory Committee Act (FACA) (Pub. L. 92-463), as amended, and Section 166(i)(4) of the Workforce Innovation and Opportunity Act (WIOA) [29 U.S.C. 3221(i)(4))], notice is hereby given of the next meeting of the Native American Employment and Training Council (Council), as constituted under WIOA.

DATES: The meeting will begin at 10:00 a.m., (Central Time Zone) on Tuesday, August 18, 2015, and continue until 5:30 p.m. that day. The meeting will reconvene at 10:00 a.m., on Wednesday, August 19, 2015, and adjourn at 5:30 p.m. that day. The period from 3:00 p.m. to 5:00 p.m. on August 18, 2015, will be reserved for participation and comment by members of the public.

ADDRESSES: The meeting will be held at the Choctaw Conference Center, 4216 S. Hwy. 69/75, Durant, Oklahoma 74701.

SUPPLEMENTARY INFORMATION: The meeting will be open to the public. Members of the public not present may submit a written statement on or before August 14, 2015, to be included in the record of the meeting. Statements are to be submitted to Athena R. Brown, Designated Federal Officer (DFO), U.S. Department of Labor, 200 Constitution Avenue NW., Room S-4209, Washington, DC 20210. Persons who need special accommodations should contact Craig Lewis at (202) 693-3384, at least two business days before the meeting. The formal agenda will focus on the following topics: (1) U.S. Department of Labor, Employment and Training Administration Update and follow-up on the Workforce Innovation and Opportunity Act of 2014 (WIOA) recommendations; (2) Performance Outcomes and Reporting; (3) Recommendations on WIOA regulations; (4) Training and Technical Assistance; (5) Council and Workgroup Updates and Recommendations; (6) New Business and Next Steps; and (7) Public Comment.

FOR FURTHER INFORMATION CONTACT: Athena R. Brown, DFO, Division of Indian and Native American Programs, Employment and Training Administration, U.S. Department of Labor, Room S-4209, 200 Constitution Avenue NW., Washington, DC 20210. Telephone number (202) 693-3737 (VOICE) (this is not a toll-free number).

Portia Wu,
Assistant Secretary, Employment and Training Administration.

[FR Doc. 2015-18677 Filed 7-29-15; 8:45 am]

BILLING CODE 4510-FR-P